DEPARTMENT OF THE INTERIOR

Bureau of Land Management

[CA-610-1610-DP]

Notice of Availability for the Proposed West Mojave Plan and Final Environmental Impact Statement

AGENCY: Bureau of Land Management, Interior.

ACTION: Notice of availability.

SUMMARY: In accordance with the National Environmental Policy Act (NEPA), the Federal Land Policy and Management Act (FLPMA) and Bureau of Land Management (BLM) management policies, the BLM announces the availability of the Proposed West Mojave Plan (WMP) and Final Environmental Impact Statement (EIS). This planning activity encompasses approximately 3.3 million acres of public lands administered by the BLM's California Desert District, located in Inyo, Kern, Los Angeles and San Bernardino Counties in southern California.

The Proposed WMP is being prepared in collaboration with State and local governments. This collaborative process is taking into account local, regional and national needs and concerns. The conservation strategy to be implemented on public lands includes measures that would be compatible with the development of a habitat conservation plan on 3.0 million acres of private and local government lands within the planning area.

DATES: BLM Planning Regulations (43 CFR 1610.5-2) state that any person who participated in the planning process, and has an interest that may be adversely affected, may protest. The protest must be filed within 30 days of the date that the Environmental Protection Agency (EPA) publishes this notice in the Federal Register. More specific instructions and requirements for protests are contained in the SUPPLEMENTARY INFORMATION section of this notice.

ADDRESSES: Copies of the Proposed WMP and Final EIS are available upon request from the District Manager, California Desert District Office, located at 22835 Calle San Juan De Los Lagos, Moreno Valley, CA 92553. Copies may be examined at the BLM's California Desert District Office in Moreno Valley, and at BLM's Ridgecrest Field Office, located at 33S Richmond Road, Ridgecrest CA 93555, and Barstow Field Office located at 2601 Barstow Road, Barstow CA 92311, during regular business hours from 7:45 a.m. to 4 p.m., Monday through Friday, except holidays.

FOR FURTHER INFORMATION CONTACT: For further information and/or to have your name added to the BLM's mailing list, contact Linda Hansen, California Desert District Manager, at (909) 697-5207.

SUPPLEMENTARY INFORMATION: The Proposed WMP addresses the management of 3.3 million acres of public lands administered by the BLM in eastern Kern County, southern Inyo County, northern Los Angeles County and western San Bernardino County, all of which are within the State of California. The BLM's Ridgecrest and Barstow Field Offices administer most of these public lands. A small amount of acreage administered by the BLM's Needles and Palm Springs Field Offices is also affected. All public lands are within the California Desert Conservation Area (CDCA), and all lie within the jurisdiction of the BLM's California Desert District.

The Proposed WMP is being prepared collaboratively with local jurisdictions, State and other Federal agencies. The purpose of the WMP is to develop conservation strategies for over 100 Federal and state-listed plant and animal species that are found within the western Mojave Desert, including the federally listed as threatened desert tortoise (Gopherus agassizii) and the state-listed Mojave Ground Squirrel (Spermophilus mohavensis), and to simplify procedures for complying with the Endangered Species Act of 1974 as amended, and the California Endangered Species Act. Other issues addressed include the development of a motorized vehicle access network for public lands in the region, and effects of the program on regional economics, growth-inducing impacts, livestock grazing, mining, cultural resources and recreation. The WMP would be implemented on public lands through amendments to the BLM's CDCA Plan.

The Final EIS considers and analyzes seven (7) alternatives (A-G), including a No Action Alternative, with Alternative A identified as the BLM's Proposed Alternative. These Alternatives have been developed based on extensive public input following an initial round of scoping meetings in January 1992, extensive biological and field survey work in the late 1990's, nearly 50 “task group” meetings attended by representatives of the participating agencies and jurisdictions and the general public between December 1999 and May 2002, numerous other public meetings, a final round of scoping meetings in June and July 2002 and January 2003, and seven public hearings held in June and July 2003 during the public review of the Draft EIS. The proposed action and alternatives were based on comments and suggestions offered during those meetings, hearings, and surveys.

The seven alternatives analyzed provide for a wide array of land use allocations and management direction. The alternatives provide for variable levels of commodity production, resource protection, special areas, and authorized land and resource uses, including endangered species conservation, motorized vehicle access to public lands, livestock grazing and various forms of recreation. Necessary amendments to the BLM's CDCA Plan are addressed.

The planning process includes an opportunity for administrative review through a plan protest to the BLM Director should a previous commentator on the Draft WMP/Draft EIS believe that the decision has been issued in error. Only those persons or organizations that participated in the planning process may protest. Protests from parties having no previous involvement will be denied without further review. A protesting party may raise only those issues that were submitted for the record during the planning process. New issues raised during the protest period should be directed to the BLM, California Desert District Manager, 22835 Calle San Juan De Los Lagos, Moreno Valley, CA 92553 for consideration in plan implementation, as potential plan amendments, or as otherwise appropriate. The period for filing protests begins when the EPA publishes in the Federal Register its Notice of Receipt of the Final EIS containing the Proposed WMP. To be considered “timely”, the protest must be postmarked no later than the last day of the 30-day protest period. Also, although not a requirement, it is recommended that the protest be sent by certified mail, return receipt requested. E-mail and faxed protest will not be accepted as valid protest unless the protesting party also provides the original letter by either regular or overnight mail postmarked by the close of the protest period. Under these conditions, the BLM will consider the e-mail or faxed protest as an advanced copy, and the protest will receive full consideration. If the protestor wishes to provide the BLM with such advanced notification, faxed protests should be directed to the BLM Protest Coordinator at 202-452-5112, and e-mail to the attention of Brenda_Hudgen-Williams@blm.gov. Please direct the follow-up letter to the appropriate address provided below.

Protest must be filed in writing to: Director (210), Attention: Brenda Williams, P.O. Box 66538, Washington, DC 20035, or by overnight mail to: Director (210), Attention: Brenda Williams, 1620 L Street, NW., Suite 1075, Washington, DC 20036. In order to be considered complete, the protest must contain, at minimum, the following information:

1. The name, mailing address, telephone number, and interest of the person filing the protest.

2. A statement of the issue or issues being protested.

3. A statement of the part or parts of the plan being protested. To the extent possible, this should be done by reference to specific pages, paragraphs, sections, tables, maps, etc. included in the Final EIS.

4. A copy of all documents addressing the issue or issues that were submitted during the planning process or a reference to the date the issue or issues were discussed by the person participating for the record.

5. A concise statement explaining why the decision of the BLM California State Director is believed to be incorrect. This is a critical part of the protest. Take care to document all relevant facts. As much as possible, reference or cite the planning documents, environmental analysis documents, and available planning records (i.e., meeting minutes or summaries, correspondence, etc.). A protest that merely expresses disagreement with the proposed decision, in the absence of supporting data, will not provide additional basis for the BLM Director's review of the decision.

Please note that comments, including names and street addresses of respondents, are available for public review an/or release under the Freedom of Information Act (FOIA). Individual respondents may request confidentiality. Respondents who wish to withhold their name and/or street address from public review or from disclosure under FOIA, must state this prominently at the beginning of their written comments. Such requests will be honored to the extent allowed by law. All submissions from organizations or businesses, and from individuals identifying themselves as representatives or officials of organizations or businesses, will be made available for public inspection in their entirety.

The Director will promptly render a decision on the protest. The decision will be in writing and will be sent to the protesting party by certified mail, return receipt requested. The decision of the Director will be the final decision of the Department of the Interior.

J. Anthony Danna,
Deputy State Director, Natural Resources Division.

[FR Doc. 05-6399 Filed 3-31-05; 8:45 am]

BILLING CODE 4310-40-P